DEPARTMENT OF EDUCATION

Equity and Excellence Commission

AGENCY: U.S. Department of Education, Office for Civil Rights.

ACTION: Notice of open meeting.

SUMMARY: This notice sets forth the schedule and proposed agenda of an upcoming meeting of the Equity and Excellence Commission (Commission). The notice also describes the functions of the Commission. Notice of this meeting is required by section 10(a)(2) of the Federal Advisory Committee Act (FACA) and is intended to notify the public of their opportunity to attend.

DATES: July 28th, 2011.

Time: 9:00 a.m. to 5:30 p.m.

ADDRESSES: The Commission will meet in Washington, DC at Potomac Center Plaza, 550 12th Street, SW., Washington, DC 20202 in the auditorium (room 10026).

FOR FURTHER INFORMATION CONTACT: Stephen Chen, Designated Federal Official, Equity and Excellence Commission, U.S. Department of Education, 400 Maryland Avenue, SW., Washington, DC 20202. e-mail: equitycommission@ed.gov. Telephone: (202) 453-6624.

SUPPLEMENTARY INFORMATION: On July 28th, 2011 from 9:00 a.m. to 5:30 p.m, the Equity and Excellence Commission will hold an open meeting in Washington, DC at the U.S. Department of Education's suite at Potomac Center Plaza.

The purpose of the Commission is to collect information, analyze issues, and obtain broad public input regarding how the Federal government can increase educational opportunity by improving school funding equity. The Commission will also make recommendations for restructuring school finance systems to achieve equity in the distribution of educational resources and further student performance, especially for the students at the lower end of the achievement gap. The Commission will examine the disparities in meaningful educational opportunities that give rise to the achievement gap, with a focus on systems of finance, and recommend appropriate ways in which Federal policies could address such disparities.

The agenda for the Commission's third meeting will include a discussion of the proposed recommendations and the best structure for the report. The agenda will include any relevant reports from the subcommittees, as well. Due to time constraints, there will not be a public comment period, but individuals wishing to provide comment(s) may contact the Equity Commission via e-mail at equitycommission@ed.gov.

Individuals interested in attending the meeting must register in advance because seating may be limited. Please contact Kimberly Watkins-Foote at (202) 260-8197 or by e-mail at equitycommission@ed.gov. Individuals who will need accommodations for a disability in order to attend the meeting (e.g., interpreting services, assistive listening devices, or materials in alternative format) should notify Watkins-Foote at (202) 260-8197 no later than July 14th, 2011. We will attempt to meet requests for accommodations after this date but cannot guarantee their availability. The meeting site is accessible to individuals with disabilities.

Records are kept of all Commission proceedings and are available for public inspection at the Department of Education, 400 Maryland Avenue, SW., Washington, DC 20202 from the hours of 9 a.m. to 5 p.m E.S.T.

Russlynn Ali,
Assistant Secretary, Office for Civil Rights.

[FR Doc. 2011-17628 Filed 7-12-11; 8:45 am]

BILLING CODE 4000-01-P